DEPARTMENT OF VETERANS AFFAIRS

Research Advisory Committee on Gulf War Veterans' Illnesses; Notice of Meeting

The Department of Veterans Affairs (VA) gives notice under the Federal Advisory Committee Act, that the Research Advisory Committee on Gulf War Veterans' Illnesses will meet on Tuesday June 11, 2019 and Wednesday June 12, 2019 at 810 Vermont NW, Sonny Montgomery Conference Room 230, Washington, DC 20420. On Tuesday the meeting will convene at 9 a.m. and end at 5 p.m. (EST). On Wednesday the meeting will convene at 9 a.m. and end at 12:30 p.m. (EST). All sessions will be open to the public. For interested parties who cannot attend in person, a toll-free telephone number is available at (800) 767-1750; access code 56978#.

The purpose of the Committee is to provide advice and make recommendations to the Secretary of Veterans Affairs on proposed research studies, research plans, and research strategies relating to the health consequences of military service in the Southwest Asia Theater of operations during the Gulf War in 1990-1991.

The Committee will review VA program activities related to Gulf War Veterans' illnesses and updates on relevant scientific research published since the last Committee meeting. Presentations will include updates on the VA Gulf War research program, discussions of Veteran engagement outreach sessions, and generational health effects of serving in the Gulf War. Also, there will be Committee training and a discussion of Committee business and activities.

The meeting will include time reserved for public comments in the afternoon. A signup sheet for 5-minute comments will be available at the meeting. Individuals who wish to address the Committee may submit a 1-2 page summary of their comments for inclusion in the official meeting record. Members of the public may also submit written statements for the Committee's review to Dr. Karen Block via email at karen.block@va.gov.

Because the meeting is being held in a government building, a photo I.D. must be presented at the guard's desk as a part of the clearance process. To prevent delays, you should allow an additional 30 minutes before the meeting begins to clear security. Any member of the public seeking additional information should contact Dr. Block, Designated Federal Officer, at (202) 443-5600, or by email at karen.block@va.gov.

Dated: April 25, 2019.
LaTonya L. Small,
Federal Advisory Committee Management Officer.

[FR Doc. 2019-08696 Filed 4-29-19; 8:45 am]

BILLING CODE 8320-01-P